DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Marine Planning and Climate Change Committee (MPCCC) meeting to review relevant sections of the draft 2017 annual Stock Assessment and Fishery Evaluation (SAFE) report for the Pacific Pelagic Fishery Ecosystem Plan (FEP), American Samoa Archipelago FEP, Hawaii FEP, Mariana Archipelago FEP and Pacific Remote Island Areas (PRIA) FEP. The MPCCC will also receive updates on matters related to fishery management and may make recommendations on these topics.

DATES: The meetings will be held between 1 p.m. and 5 p.m. on April 10 and 11, 2018. For the agenda, see SUPPLEMENTARY INFORMATION.

ADDRESSES: The MPCCC meeting will be held at the Council office, 1164 Bishop Street, Suite 1400, Honolulu, HI 96813, phone: (808) 522-8220. The meeting will also be available by teleconference (phone 1 888 482-3560 and use access code 5228220 followed by #) and by webinar (go to https://wprfmc.webex.com/join/info.wpcouncilnoaa.gov).

FOR FURTHER INFORMATION: Contact Kitty M. Simonds, Executive Director, Western Pacific Fishery Management Council; phone: (808) 522-8220.

SUPPLEMENTARY INFORMATION: A public comment period will be provided during the agenda. The order in which agenda items are addressed may change and will be announced in advance at the meeting. The meeting will run as late as necessary to complete scheduled business.

Agenda for the MPCCC Meeting

Tuesday, April 10, 2018, 1 p.m. to 5 p.m.

1. Welcome

2. Roll Call and Approval of Agenda

3. Island Area Updates including Climate Change Survey Results and Future Community Outreach

4. Projections of Risk and Vulnerability to Fisheries Infrastructure, Coastal Planning and Disaster Preparedness

5. 2017 FEP SAFE Reports

A. Marine Planning Sections of Pelagic and Archipelagic Reports

Wednesday, April 11, 2018, 1 p.m. to 5 p.m.

B. Climate Section of Pelagic Report

C. Climate Sections of Archipelagic Reports

D. Potential Ecosystem Indicators for Nearshore Fisheries

6. Public Comments

7. Committee Discussion and Recommendations

8. New Business

Special Accommodations

These meetings are accessible to people with disabilities. Requests for sign language interpretation or other auxiliary aids should be directed to Kitty M. Simonds, (808) 522-8220 (voice) or (808) 522-8226 (fax), at least five days prior to the meeting date.

Authority: 16 U.S.C. 1801 et seq.

Dated: April 5, 2018.
Tracey L. Thompson,
Acting Director, Office of Sustainable Fisheries, National Marine Fisheries Service.

[FR Doc. 2018-07307 Filed 4-9-18; 8:45 am]

BILLING CODE 3510-22-P